DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of June 6, 2016 through June 24, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) The workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
90,180 | Results Customer Solutions, The Results Companies LLC | Lawrence, KS | January 1, 2014.
90,221 | Niagara LaSalle Corporation, Optima Specialty Steel, Inc | Buffalo, NY | January 1, 2014.
90,239 | PCS-CTS | Fremont, CA | January 1, 2014.
91,106 | Woodgrain Millwork, Inc., Mid Oregon Personnel | Prineville, OR | November 3, 2014.
91,177 | PTC Alliance, PTC Group Holdings LLC, Liken Services | Beaver Falls, PA | November 14, 2014.
91,251 | Allegheny Ludlum, LLC, ATI Flat Rolled Products, Brackenridge Operations, Allegheny Technologies | Brackenridge, PA | December 19, 2014.
91,315 | Pacific States Plywood, Inc., Pacific States Industries, Inc., Superior Employment Agency, Inc | Springfield, OR | January 7, 2015.
91,459 | The Doe Run Resources Corporation, Mining and Milling Division | St. Louis, MO | February 10, 2015.
91,459A | The Doe Run Resources Corporation, Mining and Milling Division | Ellington, MO | February 10, 2015.
91,459B | The Doe Run Resources Corporation, Mining and Milling Division, All Type Contracting LLC, etc | Viburnum, MO | February 10, 2015.
91,470 | Titan Tire of Freeport, Inc., Titan International, Inc | Freeport, IL | February 12, 2015.
91,501 | Lumina Datamatics | Harrisburg, PA | February 23, 2015.
91,692 | Superior Graphite Company | Russellville, AR | April 12, 2015.
91,712 | CF&I Steel LP DBA Evraz Rocky Mountain Steel, Evraz PLC | Pueblo, CO | April 15, 2015.
91,767 | Mount Vernon Mills Cuero Plant, R.B. Pamplin Corporation | Cuero, TX | April 13, 2015.
91,773 | CH2M Hill Engineers, Inc., CH2M Hill, Inc., CH2M Hill Constructors, Inc., CH2M Hill Engineering Services, etc | Bellingham, WA | May 3, 2015.
91,796 | Remington Outdoor Company, Firearms Division, Remington Outdoor Company, Inc., Temp Plus | Hickory, KY | May 11, 2015.

The following certifications have been issued. The requirements of Section 222(a)(2)(B) (shift in production or services) of the Trade Act have been met.

TA-W No. | Subject firm | Location | Impact date
90,098 | Quest Diagnostics, IT Helpdesk Reporting Under IT Division, Teksystems | St. Louis, MO | January 1, 2014.
90,117 | Nordyne LLC, Subsidiary of Nortek Global HAVC LLC | St. Louis, MO | January 1, 2014.
90,142 | John Deere Seeding Group—Moline, IL, A Manufacturing Unit within Deere & Company | Moline, IL | January 1, 2014.
90,268 | Computer Science Corporation, Division of GBS Application Managed Services—Diversified | Webster, NY | January 1, 2014.
90,285 | Alleson of Rochester, Inc., Alleson Athletic Division | Geneva, NY | January 1, 2014.
90,306 | Verizon Business Network Service, Inc., Conferencing Operations | Cedar Rapids, IA | January 1, 2014.
91,078 | Atlas Database Software Corporation, DBA Atlas Development Corporation, Roper Technologies, Inc | Calabasas, CA | October 27, 2014.
91,393 | Sprint Information Technology Group, 6100 and 6180 Sprint Parkway, Amdocs, etc | Overland Park, KS | January 26, 2015.
91,431 | Amgen, Inc., Global Business Services Group, Amgen, Appleone, US Tech Solutions, etc | Thousand Oaks, CA | February 3, 2015.
91,516 | International Business Machines Corporation (IBM), Regulatory Services, Global Technology Services Division, etc | Poughkeepsie, NY | February 25, 2015.
91,516A | International Business Machines Corporation (IBM), Regulatory Services, Global Technology Services Division (GTS) | Tallahassee, FL | February 25, 2015.
91,516B | International Business Machines Corporation (IBM), Regulatory Services, Global Technology Services Division (GTS) | Atlanta, GA | February 25, 2015.
91,516C | International Business Machines Corporation (IBM), Regulatory Services, Global Technology Services Division (GTS) | Minneapolis, MN | February 25, 2015.
91,516D | International Business Machines Corporation (IBM), Regulatory Services, Global Technology Services Division (GTS) | Jericho, NY | February 25, 2015.
91,516E | International Business Machines Corporation (IBM), Regulatory Services, Global Technology Services Division (GTS) | Indianapolis, IN | February 25, 2015.
91,516F | International Business Machines Corporation (IBM), Regulatory Services, Global Technology Services Division (GTS) | Boulder, CO | February 25, 2015.
91,521 | Digital Intelligence Systems LLC, M.A. Holding Corp. and Weston Presidio, American Unit, Inc., etc | McLean, VA | February 23, 2015.
91,536 | Kennametal, Inc., Internal Information Technology, TekSystems & Software Specialists | Latrobe, PA | February 22, 2015.
91,567 | Titan Tire Corporation of Bryan, Titan International, Inc., PER MAR Security Services and Elwood Staffing | Bryan, OH | March 8, 2015.
91,573 | nLight, Inc., Division of Laser Components Manufacturing | Vancouver, WA | February 16, 2015.
91,623 | Experian, Credit Services, Experian Data Quality, Global Product Development | Costa Mesa, CA | April 5, 2015.
91,623A | Allegis Global Solutions, Experian, Credit Services—Experian Data Quality, etc | Costa Mesa, CA | March 22, 2015.
91,628 | McGuane Industries, Inc., Qualitor, Inc | Burton, MI | March 23, 2015.
91,714 | United Technologies Electronic Controls, Inc., Aerotek, Kelly Services, and Robert Half | Huntington, IN | April 19, 2015.
91,715 | AECOM, Energy, Infrastructure & Industrial Construction (EIC) Division, etc | Boise, ID | April 19, 2015.
91,717 | 3M, Consumer Health Care Division, Volt | Milford, OH | April 20, 2015.
91,725 | General Electric Company, Transportation Division, Adecco, CH2M Hill, GGS Information Services, etc | Erie, PA | June 4, 2016.
91,725A | 3M Industrial, A-D Technology, AVI Foodsystems, AXIS Solution, Birlasoft, Inc., Bosch Service Solutions, Cincinnati Bell Technology, etc | Erie, PA | April 21, 2015.
91,744 | Plasti-Kote Company, Inc., Consumer Business Group, The Valspar Corporation, Adecco and Kelly Services | Medina, OH | April 26, 2015.
91,752 | The McClatchy Company, Technology Division | Sacramento, CA | April 27, 2015.
91,752A | The McClatchy Company, Technology Division | Fresno, CA | April 27, 2015.
91,752AA | The McClatchy Company, Technology Division | Kennewick, WA | April 27, 2015.
91,752B | The McClatchy Company, Technology Division | Merced, CA | April 27, 2015.
91,752BB | The McClatchy Company, Technology Division | Washington, DC | April 27, 2015.
91,752C | The McClatchy Company, Technology Division | Modesto, CA | April 27, 2015.
91,752D | The McClatchy Company, Technology Division | San Luis Obispo, CA | April 27, 2015.
91,752E | The McClatchy Company, Technology Division | Bradenton, FL | April 27, 2015.
91,752F | The McClatchy Company, Technology Division | Miami, FL | April 27, 2015.
91,752G | The McClatchy Company, Technology Division | Columbus, GA | April 27, 2015.
91,752H | The McClatchy Company, Technology Division | Macon, GA | April 27, 2015.
91,752I | The McClatchy Company, Technology Division | Boise, ID | April 27, 2015.
91,752J | The McClatchy Company, Technology Division | Belleville, IL | April 27, 2015.
91,752K | The McClatchy Company, Technology Division | Wichita, KS | April 27, 2015.
91,752L | The McClatchy Company, Technology Division | Lexington, KY | April 27, 2015.
91,752M | The McClatchy Company, Technology Division | Gulfport, MS | April 27, 2015.
91,752N | The McClatchy Company, Technology Division | Kansas City, MO | April 27, 2015.
91,752O | The McClatchy Company, Technology Division | Charlotte, NC | April 27, 2015.
91,752P | The McClatchy Company, Technology Division, Robert Half Technology | Raleigh, NC | April 27, 2015.
91,752Q | The McClatchy Company, Technology Division | State College, PA | April 27, 2015.
91,752R | The McClatchy Company, Technology Division | Beaufort, SC | April 27, 2015.
91,752S | The McClatchy Company, Technology Division | Rock Hill, SC | April 27, 2015.
91,752T | The McClatchy Company, Technology Division | Bluffton, SC | April 27, 2015.
91,752U | The McClatchy Company, Technology Division | Columbia, SC | April 27, 2015.
91,752V | The McClatchy Company, Technology Division | Myrtle Beach, SC | April 27, 2015.
91,752W | The McClatchy Company, Technology Division | Fort Worth, TX | April 27, 2015.
91,752X | The McClatchy Company, Technology Division | Bellingham, WA | April 27, 2015.
91,752Y | The McClatchy Company, Technology Division | Olympia, WA | April 27, 2015.
91,752Z | The McClatchy Company, Technology Division | Tacoma, WA | April 27, 2015.
91,765 | St. Peter's Health Partners (SPHP) Transcription Department, Health Information Management Operations, Trinity Health | Albany, NY | May 2, 2015.
91,794 | Borets U.S., Inc., Borets International Ltd., Accounting Principals and Robert Half | Tulsa, OK | April 29, 2015.
91,803 | VF Contemporary Brands, VF Corporation, Division of 7 for All Mankind-Sewing, Warphire and Volt | Los Angeles, CA | May 12, 2015.
91,821 | Siemens Medical Solutions USA, Inc., Refurbishing Division, Randstad Source Right | Wood Dale, IL | May 18, 2015.
91,847 | Teledyne Blueview, Inc., Teledyne Instruments, Inc., Teledyne Technologies, Aerotek | Bothell, WA | May 23, 2015.
91,848 | United States Steel Corporation, Division of Transaction Processing, UBICS, ITPI Staffing, etc | Pittsburgh, PA | May 24, 2015.
91,848A | United States Steel Corporation, Division of Transaction Processing, ITPI Staffing, and Kelly Services, Inc | Pittsburgh, PA | May 24, 2015.
91,852 | Howden North America Inc., Shared Services, New Build, Aftermarket Division, Colfax Corp., Accountemps | Columbia, SC | May 24, 2015.
91,854 | Polartec LLC, Pipevine MMI Holdings, LLC, Moore Staffing, etc | Lawrence, MA | May 25, 2015.
91,859 | MSE Technologies LLC, Clover Technologies Group LLC, Temp Depot AKA 1st Choice Staffing, etc | Van Nuys, CA | May 25, 2015.
91,866 | Chandler Industries, Chandler Industries, Inc., Aerotek, Employment Solutions, PMG, etc | Littleton, CO | May 27, 2015.
91,869 | MechoShade Systems, f/k/a MechoShade West, Inc., Spring Window Fashions, Elwood Staffing, etc | Phoenix, AZ | May 31, 2015.
91,871 | Sun Dental Labs, LLC, Sun Dental Holdings, LLC, Paycheck PEO III, LLC | St. Petersburg, FL | June 1, 2015.
91,873 | Applegate Livestock Equipment Inc., AG Growth International, Inc., PRO Resources, Staffmark & Elwood Staffing | Union City, IN | June 1, 2015.
91,873A | Applegate, Ideal Division, AG Growth International, Inc | Jefferson, IA | June 1, 2015.
91,879 | Cal-Comp USA (Indiana) INC, f/k/a Total Electronics, Cal-Com (USA) Co. LTD, Numbers and Words, Inc | Logansport, IN | June 3, 2015.
91,880 | MTE Corporation, SL Industries | Menomonee Falls, WI | June 3, 2015.
91,886 | Delta Apparel, Inc | Maiden, NC | June 7, 2015.
91,887 | Foster Needle Company, Inc., Groz Beckert KG, ABR Employment Services | Manitowoc, WI | June 7, 2015.
91,911 | Ametek, Engineered Medical Components (EMC), etc | Tigard, OR | June 10, 2015.
91,917 | Amarillo College of Hairdressing, D/B/A Milan Institute & Milan Institute of Cosmetology, Call Center | Amarillo, TX | June 13, 2015.
91,935 | Triumph Group, Inc., Triumph Aerostructures—Vought Aircraft Division, Johnson Service Group | Nashville, TN | June 17, 2015.

The following certifications have been issued. The requirements of Section 222(b) (supplier to a firm whose workers are certified eligible to apply for TAA) of the Trade Act have been met.

TA-W No. | Subject firm | Location | Impact date
91,311 | Lakehead Constructors, Inc., Concrete Sawing Services, A.W. Kuettel & Sons, Northern Industrial, etc | Mt. Iron, MN | January 7, 2015.
91,336 | Spirit Aerosystems, Inc., Butler America, CTS International, Forster Design, HI-TEK, etc | Wichita, KS | October 19, 2015.
91,336A | Spirit Aerosystems, Inc., Launch Technical Services, Belcan Corporation, Donatech, etc | Wichita, KS | January 12, 2015.
91,474 | Lee Aerospace, Inc., LSI Staffing | Wichita, KS | February 16, 2015.

The following certifications have been issued. The requirements of Section 222(b) (downstream producer for a firm whose workers are certified eligible to apply for TAA) of the Trade Act have been met.

TA-W No. | Subject firm | Location | Impact date
91,267 | Stone Transport, L.P | Saginaw, MI | December 29, 2014.

Negative Determinations for Worker Adjustment Assistance

In the following cases, the investigation revealed that the eligibility criteria for worker adjustment assistance have not been met for the reasons specified.

The investigation revealed that the criteria under paragraphs (a)(2)(A)(i) (decline in sales or production, or both) and (a)(2)(B) (shift in production or services to a foreign country) of section 222 have not been met.

TA-W No. | Subject firm | Location | Impact date
90,195 | Peel Technologies, Akraya, Inc | Mountain View, CA.
91,274 | Cummins, Inc., Express Employment and Office Team | Portland, OR.
91,433 | Strike, LLC, D/B/A Strike Construction, LLC, Division 114—Instrumentation, etc | The Woodlands, TX.
91,543 | Mayflower Vehicle Systems, LLC, Commercial Vehicle Group, Inc., Personnel Temp Services | Shadyside, OH.

The investigation revealed that the criteria under paragraphs (a)(2)(A) (increased imports) and (a)(2)(B) (shift in production or services to a foreign country) of section 222 have not been met.

TA-W No. | Subject firm | Location | Impact date
90,020 | AT&T Mobility Services LLC | Springfield, IL.
90,022 | Great Lakes Chemical Company, F/K/A Bio-Lab Inc., Chemtura Corp., Adecco, Manpower, Trillium and Fasco | Adrian, MI.
90,029 | Premier Nutrition Corporation, Powerbar Division, Post Holdings, Inc., Post Foods, LLC, Adecco Staffing | Boise, ID.
90,252 | Globe Energy Services | Owasso, OK
90,333 | WestRock (Iowa City Assembly), Merchandising Displays, Sedona Staffing and CFA | Iowa City, IA.
91,047 | Big Strike, LLC, Arlington Global Financial, Ltd., Gores Group, AMR Staffing, 24 Seven, etc | Gardena, CA.
91,083 | Voith Paper Fabric and Rolls Systems, Inc., Voith Paper, Inc., Voith Holding, Inc., Manpower | Neenah, WI
91,171 | Safilo USA, Inc., Express Employment Professionals | Parsippany, NJ.
91,241 | Ensign United States Drilling Inc., Ensign Energy Services Inc | Denver, CO.
91,288 | Shopko Stores Operating Co., LLC, SKO Group Holding, LLC | Omaha, NE.
91,319 | Zup's | Aurora, MN.
91,341 | Capco Machinery Systems, Inc | Roanoke, VA.
91,373 | McGovern Metals Co. Inc | Roseburg, OR.
91,419 | LCT Energy, L.P., GMS Mine Repair & Maintenance | Johnstown, PA.
91,420 | Panasonic Appliances Company of America, Panasonic Corporation of North America | Danville, KY.
91,420A | Panasonic Appliances Company of America, Panasonic Corporation of North America | Rolling Meadows, IL.
91,478 | Climax Molybdenum Company Henderson Mine, Freeport-McMoRan Corporation, Geotemps and TK Mining Services | Empire, CO.
91,478A | Climax Molybdenum Company Henderson Mill, Freeport-McMoRan Corporation, Geotemps and TK Mining Services | Parshall, CO.
91,573A | nLight, Inc., Division of Laser Systems Manufacturing, Ultimate Staffing | Vancouver, WA.
91,655 | Baker Hughes Incorporated, Wireline Services Southern Geomarket Division | Victoria, TX.
91,655A | Baker Hughes Incorporated, Wireline Services Southern Geomarket Division | Alice, TX.
91,655B | Baker Hughes Incorporated, Wireline Services Southern Geomarket Division | Edinburg, TX.
91,716 | Trican Well Services, L.P | Odessa, TX.
91,740 | Xerox, Global Technology Delivery Group (GTDG), Large Enterprise Organization, etc | Wilsonville, OR.
91,745 | Devon Energy Production Company, L.P | Oklahoma City, OK.
91,790 | Cenntro Automotive Corporation, Cenntro Automotives Group Limited, Applied Staffing Solutions, LLC | Sparks, NV.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
90,105 | Intel Corporation, Ronier Acres Campus | Hillsboro, OR.
91,255 | DMI International, Inc. and Dieco Manufacturing, Inc | Tulsa, OK.
91,255A | DMI International, Inc. and Dieco Manufacturing, Inc | Mill Hall, PA.
91,916 | Control Devices, LLC, f/k/a Flexi-Hinge Valve Co., Inc | Fairview, PA.

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
91,856 | Oklahoma Department of Human Services, Comanche County Human Services Center | Lawton, OK.

The following determinations terminating investigations were issued because the petitioning groups of workers are covered by active certifications. Consequently, further investigation in these cases would serve no purpose since the petitioning group of workers cannot be covered by more than one certification at a time.

TA-W No. | Subject firm | Location | Impact date
91,034 | Covidien LP | Mansfield, MA.
91,306 | Micro Power Electronics, Inc., Electrochem Solutions, Inc., Greatbatch, Ltd., Aerotek, Superior Group, etc | Beaverton, OR.
91,670 | LPL Financial LLC, Business Technology Services, Insight Global, LLC | San Diego, CA.
91,679 | Alleson of Rochester, Inc., Alleson Athletic Division | Geneva, NY.
91,746 | PetroChoice, LLC | Superior, WI.
91,832 | Kennametal, Inc., Technology Group, Remote/Office in Home Workers | Latrobe, PA.
91,944 | Static Control Components, Inc | Sanford, NC.

The following determinations terminating investigations were issued because the petitions are the subject of ongoing investigations under petitions filed earlier covering the same petitioners.

TA-W No. | Subject firm | Location | Impact date
91,649 | Vigo Coal Company | Boonville, IN.
91,649A | Vigo Coal Company | Mount Carmel, IL.

I hereby certify that the aforementioned determinations were issued during the period of June 6, 2016 through June 24, 2016. These determinations are available on the Department's Web site https://www.doleta.gov/tradeact/taa/taa_search_form.cfm under the searchable listing of determinations or by calling the Office of Trade Adjustment Assistance toll free at 888-365-6822.

Signed at Washington, DC, this 11th day of February 2016.
Jessica R. Webster,
Certifying Officer, Office of Trade Adjustment Assistance.

[FR Doc. 2016-16841 Filed 7-15-16; 8:45 am]

BILLING CODE 4510-FN-P